DEPARTMENT OF DEFENSE

Office of the Secretary

[Docket ID: DoD-2025-OS-0474]

U.S. Court of Appeals for the Armed Forces Proposed Rules Changes

AGENCY: Office of the Secretary, Department of Defense (DoD).

ACTION: Notice of proposed changes to the Rules of Practice and Procedure of the United States Court of Appeals for the Armed Forces.

SUMMARY: This notice announces proposed redrafting of the Rules of Practice and Procedure, United States Court of Appeals for the Armed Forces. Although these rules of practice and procedure fall within the Administrative Procedure Act's exemptions for notice and comment, the Department, as a matter of policy, has decided to make these changes available for public review and comment before they are implemented.

DATES: Comments on the proposed changes must be received by September 19, 2025.

ADDRESSES: You may submit comments, identified by docket number and title by any of the following methods:

• Federal eRulemaking Portal: http://www.regulations.gov.

• Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at http://www.regulations.gov as they are received without change, including personal identifiers or contact information.

FOR FURTHER INFORMATION CONTACT: Malcolm H. Squires, Jr., Clerk of the Court, telephone (202) 761-1448.

SUPPLEMENTARY INFORMATION: This notice announces the following proposed changes to Rules 22 and 26 of the Rules of Practice and Procedure, United States Court of Appeals for the Armed Forces.

Dated: August 18, 2025.
Aaron T. Siegel,
Alternate OSD Federal Register Liaison Officer, Department of Defense.

Rule 22

Rule 22—Certificate for Review—currently reads:

(a) A certificate for review under Rule 18(b) will be substantially in the following form:

* * * * *

3. It is requested that action be taken with respect to the following issue(s):

[Set out issue(s) here]

The Judge Advocate General

Received a copy of the foregoing Certificate for Review this __ day of __, __.

Appellate Government Counsel

Address, email, and telephone no.

Apellate Defense Counsel

Address, email, and telephone no.

Certificate of Filing and Service

I certify that the foregoing was electronically filed with the Court, and a copy served upon appellate defense counsel on this __ day of __, __.

Appellate Counsel

* * * * *

The proposed change to Rule 19 would read:

(a) A certificate for review under Rule 18(b) will be substantially in the following form:

* * * * *

3. It is requested that action be taken with respect to the following issue(s):

[Set out issue(s) here]

The Judge Advocate General

Received a copy of the foregoing Certificate for Review this __ day of __, __.

Appellate Government Counsel

Address, email, and telephone no.

Apellate Defense Counsel

Address, email, and telephone no.

__[initial] I certify that appropriate notification to the other Judge Advocates General and the Staff Judge Advocate to the Commandant of the Marine Corps has been made in compliance with Article 67(a)(2), UCMJ.

Certificate of Filing and Service

I certify that the foregoing was electronically filed with the Court, and a copy served upon appellate defense counsel on this __ day of __, __.

Appellate Counsel

* * * * *

Comment: Rule 22 has been amended to better reflect compliance with the procedural notification requirement of Article 67(a)(2), UCMJ.

Rule 26:

Rule 26—Amicus Curiae Briefs—currently reads:

* * * * *

(a) An amicus curiae brief may be submitted before the Court's consideration of a petition for grant of review, petition for extraordinary relief, writ-appeal petition, petition for new trial, or granted case.

* * * * *

The proposed change to Rule 26 would read:

* * * * *

(a) An amicus curiae brief may be submitted before the Court's consideration of a petition for grant of review, petition for extraordinary relief, writ-appeal petition, petition for new trial, certified case, mandatory review case, or granted case.

* * * * *

Comment: Rule 26(a) has been amended to add “certified case” and “mandatory review case” to the current list of circumstances allowing for the filing of amicus curiae briefs.

[FR Doc. 2025-15891 Filed 8-19-25; 8:45 am]

BILLING CODE 6001-FR-P